DEPARTMENT OF STATE

[Delegation of Authority No. 538]

Delegation of Authority; Deputy Secretary of State as Final Appeal Authority for Payment Decisions Under the HAVANA Act

By virtue of the authority vested in the Secretary of State by the laws of the United States, including the State Department Basic Authorities Act, as amended (22 U.S.C. 2651a), and § 901 of the Further Consolidated Appropriations Act, 2020 (Div. J, Title IX, Pub. L. 116-94), as amended (the Act), and codified in 22 U.S.C. 2680b, I hereby delegate to the Deputy Secretary of State, to the extent authorized by law, the authority to act as the final appeal authority for payment decisions by the Under Secretary of Management as provided under 22 CFR 135.3(f)-(g).

Any act, regulation, or procedure subject to, or affected by, this delegation shall be deemed to be such act, regulation, or procedure as amended from time to time.

The Secretary and the Deputy Secretary for Management and Resources may also exercise the authorities delegated herein. Nothing in this delegation shall be deemed to supersede the provisions of 22 CFR 135.3 or any other delegation of authority.

This delegation is in effect only when there is no confirmed and appointed Deputy Secretary for Management and Resources.

This document shall be published in the Federal Register.

Dated: February 13, 2023.
Antony J. Blinken,
Secretary of State.

[FR Doc. 2023-04126 Filed 2-28-23; 8:45 am]

BILLING CODE 4710-10-P